DEPARTMENT OF ENERGY

Secretary of Energy Advisory Board: Correction

AGENCY: Department of Energy.

ACTION: Notice of Open Meeting: Correction.

SUMMARY: The Department of Energy (DOE) published in the Federal Register on August 27, 2013, a notice of an open meeting for the Secretary of Energy Advisory Board (SEAB). The notice is being corrected to change the time of the meeting.

Correction

In the Federal Register of August 27, 2013, in FR DOC. 2013-20861, on pages 52911-52912, please make the following corrections:

In the DATES heading, third column, first paragraph, first line, please remove, “9:00 a.m.” and in its place add “8:00 a.m.”.

In the Tentative Agenda heading, third column, first paragraph, second line, please remove, “9:00 a.m. on September 16” and in its place add, “8:00 a.m. on September 13”.

In the Public Participation heading, page 52912, first column, first paragraph, fourth line, please remove, “8:30 a.m.” and in its place add, “7:30 a.m.”

Issued in Washington, DC on August 30, 2013.
LaTanya R. Butler,
Deputy Committee Management Officer.

[FR Doc. 2013-21560 Filed 9-4-13; 8:45 am]

BILLING CODE 6450-01-P